Title 3—

The President

Proclamation 7384 of December 4, 2000

National Drunk and Drugged Driving Prevention Month, 2000

By the President of the United States of America

A Proclamation

Driving is an integral part of American culture and daily living; but it is also a privilege that carries great responsibility. To protect ourselves and others, we must always be safe, sober, and drug-free behind the wheel.

As a Nation, we have made steady progress in reducing alcohol-related deaths through stronger laws, tougher enforcement, and increased public awareness. Last year, alcohol-related traffic fatalities reached a historic low. But even one death is still one too many; that is why I was pleased to sign into law this October a nationwide impaired-driving standard of .08 blood alcohol content (BAC). Once all 50 States set their BAC limits to .08, we can save hundreds of lives and prevent thousands of injuries each year on America's streets and highways.

There are other measures we are taking to reduce the incidence of drunk driving. Last December, the Department of Transportation unveiled the “You Drink and Drive. You Lose.” campaign, an effort to promote greater public awareness of the dangers of impaired driving. In just 1 year, hundreds of communities and law enforcement agencies have joined the campaign, helping to reach nearly 100 million Americans with this simple but lifesaving message.

In memory of the thousands of victims who have lost their lives to alcohol- and drug-impaired drivers, I ask all motorists to participate in “National Lights On for Life Day” on December 15, 2000, by driving with their vehicle headlights illuminated. By doing so, we will call attention to this devastating national problem and remind others on the road of their responsibility to drive sober and drug-free.

NOW, THEREFORE, I, WILLIAM J. CLINTON, President of the United States of America, by virtue of the authority vested in me by the Constitution and laws of the United States, do hereby proclaim December 2000 as National Drunk and Drugged Driving Prevention Month. I urge all Americans to acknowledge the dangers of impaired driving, to make the right choice by designating a sober driver, to prevent impaired family members and friends from getting behind the wheel, and to help teach our young drivers the importance of alcohol- and drug-free driving. I also call on all State, county, and local leaders to make safety a top priority and to work together to make our Nation's transportation system the safest it can be.

IN WITNESS WHEREOF, I have hereunto set my hand this fourth day of December, in the year of our Lord two thousand, and of the Independence of the United States of America the two hundred and twenty-fifth.

wj

[FR Doc. 00-31353

Filed 12-6-00; 8:45 am]

Billing code 3195-01-P